DEPARTMENT OF HEALTH AND HUMAN SERVICES

National Institutes of Health

Center for Scientific Review; Amended Notice of Meeting

Notice is hereby given of a change in the meeting of the Cellular, Molecular and Integrative Reproduction Study Section, September 15, 2008, 8 a.m. to September 16, 2008, 3 p.m., Mayflower Park Hotel, 405 Olive Way, Seattle, WA 98101, which was published in the Federal Register on August 18, 2008, 73 FR 48219-48220.

The meeting will be held one day only September 15, 2008, from 8 a.m. to 6 p.m. The meeting location remains the same. The meeting is closed to the public.

Dated: August 25, 2008.
Jennifer Spaeth,
Director, Office of Federal Advisory Committee Policy.

[FR Doc. E8-20193 Filed 9-2-08; 8:45 am]

BILLING CODE 4140-01-M